DEPARTMENT OF TRANSPORTATION

Federal Aviation Administration

14 CFR Part 39

[Docket No. 2000-NM-404-AD; Amendment 39-13551; AD 2004-07-07]

RIN 2120-AA64

Airworthiness Directives; Boeing Model 757-200 and -200CB Series Airplanes

AGENCY: Federal Aviation Administration, DOT.

ACTION: Final rule.

SUMMARY: This amendment supersedes an existing airworthiness directive (AD), applicable to certain Boeing Model 757-200 series airplanes, that currently requires modifications to the attachment installation of the forward lavatory. This amendment adds airplanes to the applicability of the existing AD. The actions specified by this AD are intended to prevent failure of the attachment installation of the forward lavatory during an emergency landing, which could result in injury to the crew and passengers. This action is intended to address the identified unsafe condition.

DATES: Effective May 5, 2004.

The incorporation by reference of Boeing Special Attention Service Bulletin 757-25-0181, Revision 1, dated November 21, 2000, as listed in the regulations, is approved by the Director of the Federal Register as of May 5, 2004.

The incorporation by reference of Boeing Service Bulletin 757-25-0181, dated June 26, 1997; and Boeing Alert Service Bulletin 757-25A0187, dated September 18, 1997; as listed in the regulations, was approved previously by the Director of the Federal Register as of June 1, 1999 (64 FR 20146, April 26, 1999).

ADDRESSES: The service information referenced in this AD may be obtained from Boeing Commercial Airplanes, P.O. Box 3707, Seattle, Washington 98124-2207. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: David Crotty, Aerospace Engineer, Cabin Safety and Environmental Systems Branch, ANM-150S, FAA, Seattle Aircraft Certification Office, 1601 Lind Avenue, SW., Renton, Washington 98055-4056; telephone (425) 917-6422; fax (425) 917-6590.

SUPPLEMENTARY INFORMATION: A proposal to amend part 39 of the Federal Aviation Regulations (14 CFR part 39) by superseding AD 99-09-13, amendment 39-11146 (64 FR 20146, April 26, 1999), which is applicable to certain Boeing Model 757-200 series airplanes, was published in the Federal Register on December 22, 2003 (68 FR 71051). The action proposed to continue to require modifications to the attachment installation of the forward lavatory. The action also proposed to add airplanes to the applicability of the existing AD.

Comments

Interested persons have been afforded an opportunity to participate in the making of this amendment. No comments were submitted in response to the proposal or the FAA's determination of the cost to the public.

Conclusion

The FAA has determined that air safety and the public interest require the adoption of the rule as proposed.

Cost Impact

There are approximately 694 airplanes of the affected design in the worldwide fleet. The FAA estimates that 355 airplanes of U.S. registry will be affected by this AD.

It will take approximately 4 work hours per airplane to accomplish the required modification, at an average labor rate of $65 per work hour. Required parts will cost approximately $100 per airplane. Based on these figures, the cost impact of the required modification on U.S. operators is estimated to be $127,800, or $360 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions. The manufacturer may cover the cost of replacement parts associated with this AD, subject to warranty conditions. Manufacturer warranty remedies may also be available for labor costs associated with this AD. As a result, the costs attributable to the AD may be less than stated above.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11146 (64 FR 20146, April 26, 1999), and by adding a new airworthiness directive (AD), amendment 39-13551, to read as follows:

2004-07-07 Boeing: Amendment 39-13551. Docket 2000-NM-404-AD. Supersedes AD 99-09-13, Amendment 39-11146.

Applicability: Model 757-200 and -200CB series airplanes; as listed in Boeing Special Attention Service Bulletin 757-25-0181, Revision 1, dated November 21, 2000; and as listed in Boeing Alert Service Bulletin 757-25A0187, dated September 18, 1997; certificated in any category.

Compliance: Required as indicated, unless accomplished previously.

To prevent failure of the attachment installation of the forward lavatory during an emergency landing, which could result in injury to the crew and passengers, accomplish the following:

Restatement of Requirements of AD 99-09-13

(a) For passenger airplanes identified in Boeing Service Bulletin 757-25-0181, dated June 26, 1997: Within 24 months or 3,000 flight cycles after June 1, 1999 (the effective date of AD 99-09-13, amendment 39-11146), whichever occurs first, install a doubler to the upper attachment installation of the forward lavatory, in accordance with Boeing Service Bulletin 757-25-0181, dated June 26, 1997.

(b) For freighter airplanes identified in Boeing Alert Service Bulletin 757-25A0187, dated September 18, 1997: Within 24 months or 3,000 flight cycles after June 1, 1999, whichever occurs first, install floor panel inserts, a retention fitting assembly, and a doubler assembly to the lower attachment installation of the forward lavatory, in accordance with Boeing Alert Service Bulletin 757-25A0187, dated September 18, 1997.

New Requirements of this AD

(c) For passenger airplanes identified in Boeing Special Attention Service Bulletin 757-25-0181, Revision 1, dated November 21, 2000, other than those identified in paragraph (a) of this AD: Within 24 months after the effective date of this AD, install a doubler to the upper attachment installation of the forward lavatory, in accordance with the Work Instructions of Boeing Special Attention Service Bulletin 757-25-0181, Revision 1, dated November 21, 2000.

Parts Installation

(d) As of the effective date of this AD, no person shall install a floor panel, part number 141N5410-12 or 141N5410-28, on any airplane.

Note 1: Floor panels having part numbers 141N5410-12 and 141N5410-28 are only installed on freighter airplanes and are not used on passenger airplanes.

Installations Accomplished Per Previous Issues of Service Bulletin

(e) Installations accomplished before the effective date of this AD per the original issue of Boeing Special Attention Service Bulletin 757-25-0181, dated June 26, 1997, are considered acceptable for compliance with the actions specified in paragraph (c) of this AD.

Alternative Methods of Compliance

(f)(1) In accordance with 14 CFR 39.19, the Manager, Seattle Aircraft Certification Office, FAA, is authorized to approve alternative methods of compliance (AMOCs) for this AD.

(2) AMOCs, approved previously per AD 99-09-13, amendment 39-11146, that provide for the installation of an oversize doubler to the upper attachment installation of the forward lavatory, are approved as AMOCs with this AD.

Incorporation by Reference

(g) Unless otherwise specified in this AD, the actions shall be done in accordance with Boeing Service Bulletin 757-25-0181, dated June 26, 1997; Boeing Special Attention Service Bulletin 757-25-0181, Revision 1, dated November 21, 2000; and Boeing Alert Service Bulletin 757-25A0187, dated September 18, 1997; as applicable.

(1) This incorporation by reference of Boeing Special Attention Service Bulletin 757-25-0181, Revision 1, dated November 21, 2000, is approved by the Director of the Federal Register in accordance with 5 U.S.C. 552(a) and 1 CFR part 51.

(2) The incorporation by reference of Boeing Service Bulletin 757-25-0181, dated June 26, 1997; and Boeing Alert Service Bulletin 757-25A0187, dated September 18, 1997; was approved previously by the Director of the Federal Register as of June 1, 1999 (64 FR 20146, April 26, 1999).

(3) Copies may be obtained from Boeing Commercial Airplanes, P.O. Box 3707, Seattle, Washington 98124-2207. Copies may be inspected at the FAA, Transport Airplane Directorate, 1601 Lind Avenue, SW., Renton, Washington; or at the Office of the Federal Register, 800 North Capitol Street, NW., suite 700, Washington, DC.

Effective Date

(h) This amendment becomes effective on May 5, 2004.

Issued in Renton, Washington, on March 19, 2004.
Kevin M. Mullin,
Acting Manager, Transport Airplane Directorate, Aircraft Certification Service.

[FR Doc. 04-6954 Filed 3-30-04; 8:45 am]

BILLING CODE 4910-13-P